DEPARTMENT OF HEALTH AND HUMAN SERVICES

Centers for Medicare & Medicaid Services

[Document Identifier: CMS-10209]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Revision of a currently approved collection; Title of Information Collection: Medicare Advantage Chronic Care Improvement Program and Quality Improvement Project Reporting Tools; Use: Section 1852e(1), (2), (3)(a)(i) of the Social Security Act and 42 CFR 422.152 of the regulations describe CMS' regulatory authority to require each Medicare Advantage Organization (MAO) coordinated care plan that offers one or more MA plans to have an ongoing quality assessment and performance improvement program. This program must include assessing performance using standard measures required by the Center for Medicare and Medicaid Services (CMS), and reporting its performance to CMS.

MAOs will submit their Chronic Care Improvement Programs (CCIPs) and Quality Improvement Project (QIPs) using the revised CCIP and QIP Reporting Tools that are included in this collection. The tools have been redesigned: (1) To decrease the response burden through limiting the amount of narrative required and using an automated system; (2) to be more aligned with the standard QI reporting format; and (3) to improve the information provided by MAOs by using more structured reporting tools. CMS believes the new reporting tools will provide a simpler, easier way for MAOs to report the required data. The new tool will also generate consistency in reporting among plans so that collected data can be used more efficiently by CMS and the plans. Form Number: CMS-10209 (OMB#: 0938-1023); Frequency: Yearly; Affected Public: Private Sector—Business or other for-profits and Not-for-profit institutions; Number of Respondents: 1,904; Total Annual Responses: 1,904; Total Annual Hours: 9,520. (For policy questions regarding this collection contact Letticia Ramsey at 410-786-5262. For all other issues call 410-786-1326.)

To obtain copies of the supporting statement and any related forms for the proposed paperwork collections referenced above, access CMS' Web site at http://www.cms.gov/PaperworkReductionActof1995/PRAL/list.asp#TopOfPage or email your request, including your address, phone number, OMB number, and CMS document identifier, to Paperwork@cms.hhs.gov, or call the Reports Clearance Office at 410-786-1326.

In commenting on the proposed information collections, please reference the document identifier or OMB control number. To be assured consideration, comments and recommendations must be submitted in one of the following ways by September 6, 2011:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number, Room C4-26-05, 7500 Security Boulevard, Baltimore, Maryland 21244-1850.

Dated: July 1, 2011.
Michelle Shortt,
Director, Regulations Development Group, Office of Strategic Operations and Regulatory Affairs.

[FR Doc. 2011-17087 Filed 7-7-11; 8:45 am]

BILLING CODE 4120-01-P